DEPARTMENT OF COMMERCE

National Oceanic and Atmospheric Administration

[I.D. 082306A]

Endangered Species; File No. 1576

AGENCY: National Marine Fisheries Service (NMFS), National Oceanic and Atmospheric Administration (NOAA), Commerce.

ACTION: Notice; issuance of permit.

SUMMARY: Notice is hereby given that NMFS, Northeast Fisheries Science Center (NEFSC), 166 Water Street, Woods Hole, MA 02543-1026, has been issued a permit to take loggerhead (Caretta caretta), leatherback (Dermochelys coriacea), Kemp's ridley (Lepidochelys kempii), green (Chelonia mydas), hawksbill (Eretmochelys imbricata), and olive ridley (Lepidochelys olivacea) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394.

FOR FURTHER INFORMATION CONTACT: Patrick Opay or Kate Swails, (301)713-2289.

SUPPLEMENTARY INFORMATION: On April 28, 2006, notice was published in the Federal Register (71 FR 25153) that a request for a scientific research permit to take loggerhead, leatherback, Kemp's ridley, green, hawksbill, and olive ridley sea turtles had been submitted by the above-named organization. The requested permit has been issued under the authority of the Endangered Species Act of 1973, as amended (ESA; 16 U.S.C. 1531 et seq.) and the regulations governing the taking, importing, and exporting of endangered and threatened species (50 CFR parts 222-226).

Researchers will test modifications to scallop dredge gear that may reduce the probability of turtle injuries due to gear interactions. They will also opportunistically collect biological information from sea turtles captured in other projects or fisheries to improve NMFS's ability to assess stocks and the impact of anthropogenic activities. The researchers will annually capture and/or handle, measure, weigh, flipper tag, passive integrated transponder tag, tissue biopsy, collect parts from, photograph, and release up to 81 loggerhead, 10 leatherback, 27 Kemp's ridley, 11 green, 1 hawksbill, and 1 olive ridley. Up to 23 loggerheads and 1 leatherback, 1 Kemp's ridley, and 1 green sea turtle could be taken lethally annually. The research would occur in the Western Atlantic Ocean (Florida Keys through Maine) and the permit would be issued for 5 years.

Issuance of this permit, as required by the ESA, was based on a finding that such permit (1) was applied for in good faith, (2) will not operate to the disadvantage of any endangered or threatened species, and (3) is consistent with the purposes and policies set forth in section 2 ofthe ESA.

Dated: November 2, 2006.
P. Michael Payne,
Chief, Permits, Conservation and Education Division, Office of Protected Resources, National Marine Fisheries Service.

[FR Doc. E6-18881 Filed 11-7-06; 8:45 am]

BILLING CODE 3510-22-S